DEPARTMENT OF ENERGY

Federal Energy Regulatory Commission

[Project No. 1651-059]

Lower Valley Energy; Notice of Application for Amendment of License and Soliciting Comments, Motions To Intervene, and Protests

December 3, 2010.

Take notice that the following hydroelectric application has been filed with the Commission and is available for public inspection:

a. Application Type: Amendment of hydroelectric license.

b. Project No: 1651-059.

c. Date Filed: November 17, 2010.

d. Applicant: Lower Valley Energy, Inc.

e. Name of Project: Swift Creek Hydroelectric Project.

f. Location of Project: On Swift Creek, a tributary to the Salt River, in Lincoln County, Wyoming, partially within the Bridger-Teton National Forest.

g. Filed Pursuant to: Federal Power Act, 16 U.S.C. 791a-825r.

h. Applicant Contact: Mr. Wade Hirschi, Compliance Officer, Lower Valley Energy, Inc., 236 North Washington, P.O. Box 188, Afton, WY 83110; (307) 885-3175.

i. FERC Contact: Mr. John Aedo, (415) 369-3335, john.aedo@ferc.gov.

j. Deadline for filing comments, motions to intervene, and protest: January 3, 2011.

All documents may be filed electronically via the Internet. See 18 CFR 385.2001(a)(1)(iii) or the instructions on the Commission's Web site at http://www.ferc.gov/docs-filing/efiling.asp. If unable to be filed electronically, documents may be paper-filed. To paper-file, an original and seven copies should be mailed to: The Secretary, Federal Energy Regulatory Commission, 888 First Street, NE., Washington, DC 20426. Commenters may submit comments up to 6,000 characters, without prior registration, using the eComment system at http://www.ferc.gov/docs-filing/ecomment.asp. You must include your name and contact information at the end of your comments.

Please include the project number (P-1651-059) on any comments, motions, or protests filed.

k. Description of Request: Lower Valley Energy Inc. (licensee) is requesting approval to modify and delete various articles of its license for the Swift Creek Hydroelectric Project (FERC No. 1651). Specifically, the licensee is requesting approval to delete article 411 from its project license, which requires it to conduct surveys to assess channel stability following regular flow maintenance releases. Further, the licensee is proposing to modify license article 413 which requires it to rework the pools between the upper project diversion and upper powerhouse to instead conduct dredging in the lower project reservoir to improve fish habitat. The licensee is also proposing to modify license article 414 which requires it to coordinate with various entities to reestablish trout stocking at the project and conduct creel surveys to instead construct community fishing piers at the upper and lower reservoirs and a handicap accessible ramp at the lower project reservoir.

l. Locations of the Application: A copy of the application is available for inspection and reproduction at the Commission's Public Reference Room, located at 888 First Street, NE., Room 2A, Washington, DC 20426, or by calling (202) 502-8371. This filing may also be viewed on the Commission's Web site at http://www.ferc.gov/docs-filing/efiling.asp. Enter the docket number excluding the last three digits in the docket number field to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions To Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: All filings must (1) bear in all capital letters the title “COMMENTS”, “PROTEST”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to project works which are the subject of the proposed license amendment. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Kimberly D. Bose,
Secretary.

[FR Doc. 2010-31017 Filed 12-9-10; 8:45 am]

BILLING CODE 6717-01-P